SOCIAL SECURITY ADMINISTRATION

[Docket No: SSA-2023-0051]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and two new collections for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974

(SSA), Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2023-0051] in your submitted response.

I. The information collection below is pending at SSA. SSA will submit it to OMB within 60 days from the date of this notice. To be sure we consider your comments, we must receive them no later than April 12, 2024. Individuals can obtain copies of the collection instruments by writing to the above email address.

1. Representative Availability Portal for Social Security Administration Hearings—20 CFR 404.929, 404.933, 404.1740, 416.1429, 416.1433, 416.1540, 418.1350, 422.203—0960-NEW. As part of the appeals process, claimants can request a hearing with an Administrative Law Judge (ALJ). Approximately 80 percent of claimants have appointed representatives at the hearing level. When the Social Security Administration (SSA) schedules hearings before an ALJ, it usually considers the availability of appointed representatives, if applicable. Appointed representatives may be members of large firms, appearing at hearings nationwide, or may be solo practitioners servicing a specific geographic location or hearing office. In both situations, it is typical for appointed representatives to represent more than one claimant at any given moment; some represent hundreds of claimants at once.

Historically, the process of seeking, tracking, and considering representative availability has been a manual and time-intensive activity. In the past, hearing offices sought representative availability information by contacting each representative individually. More recently, Office of Hearings Operations' Regional Offices representatives collected availability information. Representatives provided Regional Office staff with their hearing availability via telephone or email. However, the process for gathering and considering representative availability was not standardized and varied greatly amongst Regional Offices. The appointed representative community informed SSA they would appreciate a consistent and standardized electronic process to submit their availability for hearing appearances.

In the Spring of 2023, SSA initiated the Enhanced Representative Availability Process (ERAP) to provide representatives with a more standardized and streamlined process to email their availability for hearings. In the interim, SSA obtained OMB approval to test a new Representative Availability Portal (Portal) to offer the representative community a web-based option to submit their monthly availability to SSA, as per 20 CFR 404.1740(b)(3)(iii) and 416.1540(b)(3)(iii) and in a manner consistent with ERAP. SSA tested the portal among 11 appointed representative practice groups nationwide. We are currently seeking OMB approval for the national rollout of the Portal, which collects standardized information regarding appointed representative availability for the purpose of scheduling hearings.

SSA plans to roll the Portal out to all appointed representatives registered with the Registration, Appointment and Services for Representatives (RASR) application, other professional representatives who regularly conduct hearing business with SSA but are not registered with RASR, and delegated officials from appointed representative's Designated Scheduling Groups (DSG). A DSG is a representative-identified scheduling group which can include one representative, or multiple representatives. Respondents will need to have a mySocial Security account to use the Portal and be registered into the Portal by SSA systems. Respondents who wish to use the Portal, but who are not registered with RASR, or who do not have a Representative ID, must provide SSA systems with the necessary data, including name and SSN, to complete the Portal registration process.

Portal respondents, once registered, are authorized representatives and delegated officials from appointed representatives' DSG. SSA will use the Portal to track availability for hearings for the DSG. Representatives provide hearing availability for the DSG monthly (as described above), and SSA considers the DSG-provided availability when scheduling hearings. SSA will announce the response window for the Portal each month via a reminder email, approximately ten days prior to the deadline for Portal submissions. Following the submission deadline, the Portal will “lock,” and respondents will not be able to submit availability through the Portal at that time. However, SSA has some discretion to approve a request for a late submission or modification and plans to have the capacity to unlock the Portal, when warranted. Portal response options will include DSG group, hearing region, availability during the period of submission, and respondent-preferred case maximums. The Portal will allow SSA to obtain the information we require to schedule hearings for attendees.

If the respondents choose not to submit their availability via the Portal, the option of submitting their availability through email submission (as is the current practice) will remain. If a representative elects not to timely submit any availability via the Portal or email, SSA will schedule their hearings without their input.

We expect use of the Portal will result in receiving consistent structured data from appointed representatives, which will allow for a more streamlined and effective hearing scheduling process. The Portal also meets a longstanding customer-experience request by the representative community, one of SSA's key stakeholders in the process.

The respondents are appointed representatives, and delegated officials from appointed representatives' DSGs who need to submit their availability to SSA for hearings.

Type of Request: Request for a new information collection.

This is a Correction Notice: SSA published the incorrect information for this new collection at 88 FR 71067, on 10/13/23. We are correcting this error here.

Modality of completion | Number of respondents | Frequency of response | Number of responses | Average burden per response (minutes) | Estimated total annual burden (hours) | Average theoretical hourly cost amount (dollars) ** | Total annual opportunity cost (dollars) ***
Representative Availability Portal for SSA Hearings | * 3,000 | 12 | 36,000 | 20 | 12,000 | ** $71.17 | *** $854,040
* This figure represents the approximate number of individual representatives registered with RASR who regularly schedule hearings with the agency.
** We based this figure on the mean hourly wage for the average lawyer in the United States as reported by Bureau of Labor Statistics data (https://www.bls.gov/oes/current/oes_stru.htm).
*** This figure does not represent actual costs that SSA is imposing on recipients of Social Security payments to complete this application; rather, these are theoretical opportunity costs for the additional time respondents will spend to complete the application. There is no actual charge to respondents to complete the application.

2. Statement of Death by Funeral Director and State Death Match Collections—20 CFR 404.301, 404.310-404.311, 404.316, 404.330-404.341, 404.350-404.352, 404.371, 404.715, 404.720, and 416.912—0960-0142. The death of a beneficiary is an event that terminates the individual's entitlement to Social Security benefits. As regulated, states must furnish death information to SSA to compare to SSA's payment files. SSA employs two modalities for ensuring it efficiently receives accurate information regarding the deaths of SSA-insured workers and beneficiaries: (1) Form SSA-721, Statement of Death by Funeral Director; and (2) the Electronic Death Registration (EDR). SSA operates the State Death Match collections, which includes the EDR process for electronically reporting death records to SSA. The states furnish death certificate information to SSA via a manual registration process (the SSA-721), or via the Electronic Death Registration Process (EDR). Both death match processes are automated electronic transfers between the states and SSA. This collection, via paper form SSA-721 or the EDR, allows for the funeral director or funeral home responsible for the individual's burial or cremation to report the death to SSA. SSA uses this information for three purposes: (1) to establish proof of death for the insured worker; (2) to determine if the insured individual was receiving any pre-death benefits SSA needs to terminate; and (3) to ascertain which surviving family member is eligible for the lump-sum death payment or for other death benefits. The respondents for this information collection are funeral directors who handled death arrangements for the insured individuals, and the states' bureaus of vital statistics.

Type of Request: Revision of an OMB-approved information collection.

EDR
Modality of completion | Number of respondents | Frequency of response | Average cost per record request | Estimated total annual burden hours (cost) | Average theoretical hourly cost amount (dollars) ** | Total annual opportunity cost (dollars) ***
State Death Match—EDR * | 54 | 3,164,477 | $2.77 | $473,342,469 | ** $21.33 | *** $67,498,294
States Expected to Become—State Death Match—EDR Within the Next 3 Years * | 1 | 1,247 | 3.73 | 4,651 | ** 21.33 | *** 26,598
Totals: | 55 |  |  | 473,347,120 |  | *** 67,524,892
* Please note that both of these data matching processes are electronic, and nearly immediate. Therefore, there is only a cost burden, and no hourly burden for the respondent to provide this information.
We estimated the frequency of responses by taking the total number of actual records received for calendar year 2022 for each category and dividing by the number of respondents, per category.
We have 54 States and Jurisdictions currently using EDR. Guam recently showed interest in becoming an EDR site. Estimated sometime mid to late next year 2024.
** We based this figure on the average Records Clerk hourly wages as reported by Bureau of Labor Statistics data (https://www.bls.gov/oes/current/oes_nat.htm).
*** This figure does not represent actual costs that SSA is imposing on recipients of Social Security payments to complete this application; rather, these are theoretical opportunity costs for the additional time respondents will spend to complete the application. There is no actual charge to respondents to complete the application.

SSA-721
Modality of completion | Number of respondents | Frequency of response | Average burden per response (minutes) | Estimated total annual burden (hours) | Average theoretical hourly cost amount (dollars) ** | Total annual opportunity cost (dollars) ***
SSA-721 | 437,449 | 1 | 4 | 29,163 | * $27.98 | ** $815,981
* We based this figure on average funeral home manager's hourly salary in May 2022, as reported by Bureau of Labor Statistics data (Morticians, Undertakers, and Funeral Arrangers).
** This figure does not represent actual costs that SSA is imposing on recipients of Social Security payments to complete this application; rather, these are theoretical opportunity costs for the additional time respondents will spend to complete the application. There is no actual charge to respondents to complete the application.

3. Retaining Employment and Talent After Injury/Illness Network (RETAIN)—0960-0821. The SSA and the U.S. Department of Labor (DOL) are conducting the Retaining Employment and Talent After Injury/Illness Network (RETAIN) demonstration. The RETAIN demonstration tests the impact of early intervention strategies that improve stay-at-work/return-to-work (SAW/RTW) outcomes of individuals who experience work disability while employed. We define “Work disability” as an injury, illness, or medical condition that has the potential to inhibit or prevent continued employment or labor force participation. SAW/RTW programs succeed by returning injured or ill workers to productive work as soon as medically possible during their recovery process, and by providing interim part-time or light duty work and accommodations, as necessary. We loosely modeled the RETAIN Demonstration Projects after promising programs operating in Washington State, including the Centers of Occupational Health and Education (COHE), the Early Return to Work (ERTW), and the Stay at Work programs. While these programs operate within the state's workers' compensation system, and are available only to people experiencing work-related injuries or illnesses, the RETAIN Demonstration Projects provide opportunities to improve SAW/RTW outcomes for both occupational and non-occupational injuries and illnesses of people who are employed, or at a minimum in the labor force, when their injury or illness occurs.

The primary goals of the RETAIN Demonstration Projects are:

1. To increase employment retention and labor force participation of individuals who acquire, and/or are at risk of developing, work disabilities; and

2. To reduce long-term work disability among RETAIN service users, including the need for Social Security Disability Insurance and Supplemental Security Income.

The Retain Demonstration aims to validate and expand evidence-based strategies to accomplish these goals. DOL funds intervention approaches and programmatic technical assistance, while SSA funds evaluation support, including technical assistance and the full evaluation for the demonstration. The demonstration consists of two Phases. The first involves the implementation and assessment of cooperative awards to eight states to conduct planning and start-up activities, including the launch of a small pilot demonstration. During Phase 1, SSA provided evaluation-related technical assistance and planning, and conducts evaluability assessments to assess which states' projects would allow for a rigorous evaluation if continued beyond the pilot phase. SSA completed Phase 1 on May 16, 2021. DOL selected a subset of states and continued to Phase 2 full implementation and evaluation on May 17, 2021, which will end in October 2025. During Phase 2, DOL funds the operations and program technical assistance activities for the recommended states, and SSA funds the full set of evaluation activities. The four components of this evaluation, completed during site visits, interviews with RETAIN service users, surveys of RETAIN enrollees, and surveys of RETAIN service providers, include:

• The participation analysis: Using RETAIN service user interviews and surveys, this analysis provides insights into which eligible workers choose to participate in the program, in what ways they participate, and how services received vary with participant characteristics. Similarly, it will assess the characteristics of, and if possible, reasons for non-enrollment of non-participants.

• The process analysis: Using staff interviews and logs, this analysis produces information about operational features that affect service provision; perceptions of the intervention design by service users, providers, administrators, and other stakeholders; relationships among the partner organizations; each program's fidelity to the research design; and lessons for future programs with similar objectives.

• The impact analysis: This analysis produces estimates of the effects of the interventions on primary outcomes, including employment and Social Security disability applications, and secondary outcomes, such as health and service usage. SSA identifies evaluation designs for each state to generate impact estimates, which could include experimental or non-experimental designs.

• The cost-benefit analysis: This analysis assesses whether the benefits of RETAIN justify its costs, conducted from various perspectives, including participants, state and Federal governments, SSA, and society as a whole. The purpose and proposed use of this information collection is to gather qualitative and quantitative data needed to conduct the analysis. These activities, include (1) surveys of RETAIN enrollees and (2) follow-up interviews with RETAIN service users. The qualitative data collection consists of: (1) semi-structured interviews with program staff and service users; and (2) staff activity logs. Program staff interviews focus on staff's perceptions of the successes and challenges of implementing each states program, while staff activity logs house information on staff's time to inform the benefit-cost analysis. Service user interviews inform SSA's understanding of users' experiences with program services. The quantitative data include SSA's program records and survey data. The survey data collection consists of: (1) two rounds of follow-up surveys, focusing on individual-level outcomes, with enrollees, all of whom who have experienced a disability onset; and (2) two rounds of surveys with RETAIN providers. Respondents learn of the RETAIN program data collection efforts through various outreach methods, including, but not limited to mailings, phone calls, and from other individuals. SSA is constantly reviewing our outreach strategies to ensure maximum exposure and accessibility to the materials. the respondents are staff members selected for staff interviews and staff activity logs, and RETAIN service users, enrollees, and providers.

Type of Request: Request for renewal of an information collection.

Retain 2024 Burden Figures
Modality of completion | Number of respondents | Frequency of response | Average burden per response (minutes) | Estimated total annual burden (hours) | Average theoretical hourly cost amount (dollars) * | Average wait time for teleservice centers (minutes) ** | Total annual opportunity cost (dollars) ****
Enrollee Survey Round 1 (Respondents) | 1,872 | 1 | 20 | 624 | * $29.76 | ** 19 | *** $20,177
Enrollee Survey Round 1 (Nonrespondents) | 468 | 1 | 3 | 23 | * 29.76 | ** 0 | *** 684
Enrollee Survey Round 2 (Respondents) | 4,493 | 1 | 26 | 1,947 | * 29.76 | ** 19 | *** 100,291
Enrollee Survey Round 2 (Nonrespondents) | 1,123 | 1 | 3 | 56 | * 29.76 | ** 0 | *** 1,667
Follow-up interviews with service users (Respondents) | 20 | 1 | 141 | 47 | * 29.76 | ** 19 | *** 1,577
Follow-up interviews with service users (Nonrespondents) | 30 | 1 | 6 | 3 | * 29.76 | ** 0 | *** 89
Totals | 8,006 |  |  | 2,700 |  |  | *** 124,485

Retain 2025 Burden Figures
Modality of completion | Number of respondents | Frequency of response | Average burden per response (minutes) | Estimated total annual burden (hours) | Average theoretical hourly cost amount (dollars) * | Average wait time for teleservice centers (minutes) ** | Total annual opportunity cost (dollars) ***
Enrollee Survey Round 2 (Respondents) | 1,123 | 1 | 26 | 487 | * $29.76 | ** 19 | *** $25,088
Enrollee Survey Round 2 (Nonrespondents) | 281 | 1 | 3 | 14 | * 29.76 | ** 0 | *** 417
Totals | 1,404 |  |  | 501 |  |  | *** 25,505
Grand Total |  |  |  |  |  |  |
Totals | 9,410 |  |  | 3,201 |  |  | *** 149,990
* We based these figures on average U.S. citizen's hourly salary, as reported by Bureau of Labor Statistics data (https://www.bls.gov/oes/current/oes_nat.htm).
** We based this figure on average FY 2023 wait times for teleservice centers (approximately 19 minutes per respondent), based on SSA's current management information data.
** This figure does not represent actual costs that SSA is imposing on recipients of Social Security payments to complete these tasks; rather, these are theoretical opportunity costs for the additional time respondents will spend to complete the tasks. There is no actual charge to respondents to complete the tasks.

II. SSA submitted the information collections below to OMB for clearance. Your comments regarding these information collections would be most useful if OMB and SSA receive them 30 days from the date of this publication. To be sure we consider your comments, we must receive them no later than March 13, 2024. Individuals can obtain copies of these OMB clearance packages by writing to the OR.Reports.Clearance@ssa.gov.

1. Beyond Benefits Study (BBS)—0960-NEW. The BBS will provide SSA with information regarding the needs of individuals who, due to medical improvement or a change in eligibility, have “exited” (called Exiters), or are likely to “exit” (called Possible Exiters) the Social Security Disability Insurance (SSDI) program, the Supplemental Security Income (SSI) program, or both. The BBS will provide SSA with a clearer understanding of the challenges and needs of the target population as Exiters leave the safety net and security of disability benefits and attempt to return to work. SSA will use the findings from the BBS to identify potential interventions and policies to help Exiters and Possible Exiters achieve sustainable, substantial work leading to self-sufficiency.

In seeking to understand the needs (e.g., service, medical, and employment) of Exiters and Possible Exiters, the study aims to answer three primary research questions: (1) what are the service, medical, and employment needs required to achieve sustainable, substantive employment among individuals who exit SSDI/SSI programs; (2) what are the types of services, resources, and interventions that will help exiting individuals obtain and retain employment, and should SSA consider a larger test study; and (3) what policy recommendations will facilitate substantive and sustainable employment among individuals who exit SSDI/SSI programs?

The BBS will help SSA answer these questions by collecting data through surveys, interviews, and focus groups. Quantitative data collection via the survey will include 4,000 participants stratified by exit status and other criteria. The sample will include 2,000 Possible Exiters, 1,000 Short-term Exiters (have exited within the last year), and 1,000 Long-term Exiters (have exited within the last 1-5 years) with 75% of respondents in each group having a high-scoring likelihood of medical improvement based on the Continuing Disability Review (CDR) profiling model. The sample will be further stratified by program type (SSDI versus SSI) and by recommended determinants of self-sufficiency (e.g., age, type of impairment, and urban or rural locality).

The Motivational Interviewing Pilot Test will recruit 50 Exiters to participate in six sessions. During these sessions, motivational interviewers assess each participant's readiness to return to work using a standardized screener and explore the interest and motivation relating to obtaining and retaining employment as well as career advancement. Participants who drop out after the first session will be replaced.

Data collection via the interviews and focus groups will include (1) qualitative in-depth interviews with Exiters and Possible Exiters (70 individuals); (2) ten focus groups with Exiters and Possible Exiters (140 individuals, total); (3) two focus groups with service providers (20 individuals, total); (4) in-depth interviews with state and agency leadership (30 individuals); and, (5) a focus group with the motivational interview (MI) practitioners (five individuals).

The respondents are individuals who have volunteered to take part in the study and are exiting (Exiters) or may be exiting (Possible Exiters) SSA's disability program(s) due to medical improvement or changes in eligibility; vocational service providers; state and agency leadership; and motivational interviewers.

Type of Request: Request for a new information collection.

Study component | Number of respondents | Frequency of responses | Average burden per response (minutes) | Total burden hours | Average theoretical hourly cost amount (dollars) * | Total annual opportunity cost (dollars) **
Interviews with Exiters and Possible Exiters (icl. informed consent and pre-collection questions) | 70 | 1 | 65 | 76 | * $12.81 | ** $974
Focus groups with Exiters and Possible Exiters (icl. informed consent and pre-collection questions) | 140 | 1 | 65 | 152 | * 12.81 | ** 1,947
Focus group with service providers (icl. informed consent and pre-collection questions) | 20 | 1 | 65 | 22 | * 24 | ** 528
Focus group with motivational interviewer practitioners (icl. informed consent) | 5 | 1 | 65 | 5 | * 35 | ** 175
In-depth interviews with state and agency leadership (icl. informed consent and pre-collection questions) | 30 | 1 | 65 | 33 | * 56 | ** 1,848
Survey (icl. informed consent and pre-collection questions) | 4,000 | 1 | 50 | 3,333 | * 12.81 | ** 42,696
MI Pilot (icl. informed consent and pre-collection questions) | 50 | 6 | 60 | 300 | * 12.81 | ** 3,843
Total | 4,315 | 4,565 |  | 3,921 |  | ** 52,011
* We base this figure on average DI payments wages for disability recipients as reported by SSA data (https://www.ssa.gov/legislation/2023factsheet.pdf).
** This figure does not represent actual costs that SSA is imposing on recipients of Social Security payments to complete this application; rather, these are theoretical opportunity costs for the additional time respondents will spend to complete the application. There is no actual charge to respondents to complete the application.

2. Help America Vote Act—0960-0706. House Rule 3295, the Help America Vote Act of 2002, mandates that States verify the identities of newly registered voters. When newly registered voters do not have driver's licenses or State-issued ID cards, they must supply the last four digits of their Social Security number to their local State election agencies for verification. The election agencies forward this information to their State Motor Vehicle Administration (MVA) and the State MVA inputs the data into the American Association of MVAs, a central consolidation system that routes the voter data to SSA's Help America Vote Verification (HAVV) system. Once SSA's HAVV system confirms the identity of the voter, the information returns along the same route in reverse until it reaches the State election agency. The respondents are the State MVAs seeking to confirm voter identities.

Type of Request: Revision of an OMB-approved information collection.

Modality of completion | Number of respondents | Frequency of response | Number of responses | Average burden per response (minutes) | Estimated total annual burden (hours) | Average theoretical hourly cost amount (dollars) * | Total annual opportunity cost (dollars) **
HAVV | 48 | 102,200 | 4,905,600 | 2 | 163,520 | * $22.07 | ** $3,608,886
* We based this figure on average local government information and records clerk's salary shown on the Bureau of Labor Statistic's website (https://www.bls.gov/oes/current/oes434199.htm).
** This figure does not represent actual costs that SSA is imposing on recipients of Social Security payments to complete this application; rather, these are theoretical opportunity costs for the additional time respondents will spend to complete the application. There is no actual charge to respondents to complete the application.

Naomi Sipple,
Reports Clearance Officer, Social Security Administration.

[FR Doc. 2024-02766 Filed 2-9-24; 8:45 am]

BILLING CODE 4191-02-P